DEPARTMENT OF COMMERCE

International Trade Administration

[C-570-017]

Certain Passenger Vehicle and Light Truck Tires From the People's Republic of China: Amended Final Results of Antidumping Duty Administrative Review in Part; 2019

AGENCY: Enforcement and Compliance, International Trade Administration, Department of Commerce.

SUMMARY: The Department of Commerce (Commerce) is amending the final results of the administrative review of the countervailing duty (CVD) order on certain passenger vehicle and light truck tires from the People's Republic of China (China) to correct a ministerial error.

DATES: Applicable May 17, 2022.

FOR FURTHER INFORMATION CONTACT: Nicholas Czajkowski or Richard Roberts, AD/CVD Operations, Office I, Enforcement and Compliance, International Trade Administration, U.S. Department of Commerce, 1401 Constitution Avenue NW, Washington, DC 20230; telephone: (202) 482-1395 and (202) 482-3463, respectively.

SUPPLEMENTARY INFORMATION:

Background

Commerce published the Final Results of this review on March 10, 2022.¹ On March 14, 2022, we received timely submitted ministerial error comments from the petitioner ² and interested party Shandong Province Sanli Tire Manufactured Co. Ltd (Sanli).³ On March 18, 2022, Sumitomo Rubber (Hunan) Co., Ltd. (SRH), filed comments rebutting the petitioner's assertion that Commerce committed a ministerial error.⁴ Commerce is amending its Final Results to correct the ministerial error raised by the petitioner.

¹ See Certain Passenger Vehicle and Light Truck Tires from the People's Republic of China: Final Results of Countervailing Duty Administrative Review, and Rescission of Review, in Part; 2019, 87 FR 13704 (March 10, 2022) (Final Results), and accompanying Issues and Decision Memorandum (IDM).

² See Petitioner's letter, “Passenger Vehicles and Light Truck Tires from the People's Republic of China: Ministerial Error Comments,” dated March 14, 2022. The Petitioner is United Steel, Paper and Forestry, Rubber, Manufacturing, Energy, Allied Industrial and Service Workers Union, AFL-CIO.

³ See Sanli's Letter, “Passenger Vehicle and Light Truck Tires from the People's Republic of China: Ministerial Error,” dated March 14, 2022.

⁴ See Sumitomo's Letter, “Passenger Vehicle and Light Truck Tires from the People's Republic of China: Rebuttal to Petitioner's Allegation of Ministerial Error 2019,” dated March 18, 2022.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁵ With respect to final results of administrative reviews, 19 CFR 351.224(e) provides that Commerce “will analyze any comments received and if appropriate, correct any ministerial error by amending . . . the final results of review. . . .”

⁵ See 19 CFR 351.224(f).

Ministerial Error

Commerce determines that, in accordance with section 751(h) of the Act and 19 CFR 351.224(f), it made a ministerial error in the Final Results. Pursuant to 19 CFR 351.224(e), Commerce is amending the Final Results to reflect the correction of this ministerial error in the calculation of the countervailable subsidy rate assigned to SRH, which changes from 24.79 percent to 25.63 percent.⁶ For a detailed discussion of Commerce's analysis, see Amended Final Analysis Memorandum.⁷ As a result of this change, the rate for the three non-selected companies under review also changes to 25.63 percent. Finally, the adverse facts available (AFA) rate for Triangle Tyre Co., Ltd. changes to 125.17 percent.

⁶ See Memorandum, “Ministerial Error Memorandum for the Final Results of the 2019 Administerial Review of the Antidumping Duty Stainless certain passenger tires from China,” dated concurrently with, and hereby adopted by, this notice; see also Memorandum, “Administrative Review of the Antidumping Duty Order on Passenger Vehicle Tires from China Amended Final Analysis Memorandum for SRH,” dated concurrently with this notice (Amended Final Analysis).

⁷ Id.

Amended Final Results of Review

As a result of correcting the ministerial error described above, Commerce determines the following net countervailable subsidy rates for the period of review (POR), January 1, 2019, through December 31, 2019:

Producer/exporter | Subsidy rate (percent ad valorem)
Sumitomo Rubber (Hunan) Co., Ltd. and its cross-owned affiliates.⁸ | 25.63
Triangle Tyre Co., Ltd | 125.17
Review-Specific Rate Applicable to the Following Companies
Jiangsu Hankook Tire Co., Ltd | 25.63
Qingdao Landwinner Tyre Co., Ltd | 25.63
Shandong Province Sanli Tire Manufacture Co., Ltd | 25.63

Disclosure

⁸ Commerce finds the following companies to be cross owned with Sumitomo Rubber (Hunan) Co., Ltd.: Sumitomo Rubber (China) Co., Ltd. and Sumitomo Rubber (Changshu) Co. Ltd.

We intend to disclose the calculations performed for these amended final results in accordance with 19 CFR 351.224(b).

Assessment

Pursuant to section 751(a)(2)(C) of the Act and 19 CFR 351.212(b)(1), Commerce shall determine and U.S. Customs and Border Protections (CBP) shall assess, antidumping duties on all appropriate entries of subject merchandise in accordance with the amended final results of this review. We will calculate importer-specific assessment rate on the basis of the total amount of antidumping duties calculated for each importer's examined sales and the total entered values of the sales in accordance with 19 CFR 351.212.(b)(1).

We intend to issue liquidation instructions to CBP 15 days after publication of the amended Final Results of this review. However, as stated in the Final Results, we will direct CBP not to liquidate relevant entries until the time for parties to file a request for a statutory injunction has expired.

Cash Deposit Requirements

In accordance with section 751(a)(2)(C) of the Act, Commerce also intends to instruct CBP to collect cash deposits of estimated countervailing duties in the amounts shown for the companies subject to this review. For all non-reviewed companies, we will instruct CBP to continue to collect cash deposits of estimated countervailing duties at the most recent company specific or all-others rate applicable to the company, as appropriate. These cash deposits, effective upon publication of these amended final results, shall remain in effect until further notice.

Administrative Protective Order

This notice serves as a final reminder to parties subject to administrative protective order (APO) of their responsibility concerning the destruction of proprietary information disclosed under APO in accordance with 19 CFR 351.305(a)(3). Timely written notification of return or destruction of APO materials or conversion to judicial protective order is hereby requested. Failure to comply with the regulations and the terms of an APO is sanctionable violation.

Notification to Interested Parties

We are issuing and publishing these amended final results of review in accordance with sections 751(h) and 777(i) of the Act and 19 CFR 351.224(e).

Dated: May 5, 2022.
Lisa W. Wang,
Assistant Secretary for Enforcement and Compliance.

[FR Doc. 2022-10567 Filed 5-16-22; 8:45 am]

BILLING CODE 3510-DS-P